DEPARTMENT OF THE INTERIOR

National Park Service

[NPS-WASO-NAGPRA-NPS0038396; PPWOCRADN0-PCU00RP14.R50000]

Notice of Inventory Completion: Autry Museum of the American West, Los Angeles, CA

AGENCY: National Park Service, Interior.

ACTION: Notice.

SUMMARY: In accordance with the Native American Graves Protection and Repatriation Act (NAGPRA), the Autry Museum of the American West (Southwest Museum Collection) has completed an inventory of human remains and associated funerary objects and has determined that there is a cultural affiliation between the human remains and associated funerary objects and Indian Tribes or Native Hawaiian organizations in this notice.

DATES: Repatriation of the human remains and associated funerary objects in this notice may occur on or after September 5, 2024.

ADDRESSES: Karimah Richardson, M.Phil., RPA, Associate Curator of Anthropology and Repatriation Supervisor, Autry Museum of the American West, 4700 Western Heritage Way, Los Angeles, CA 90027, telephone (323) 495-4203, email krichardson@theautry.org.

SUPPLEMENTARY INFORMATION: This notice is published as part of the National Park Service's administrative responsibilities under NAGPRA. The determinations in this notice are the sole responsibility of the Autry Museum of the American West and additional information on the determinations in this notice, including the results of consultation, can be found in the inventory or related records. The National Park Service is not responsible for the determinations in this notice.

Abstract of Information Available

Based on the information available, human remains representing, at least, two individuals have been reasonably identified. No associated funerary objects are present. The human remains (17.C.20 and 17.C.121) were collected from San Miguel Island, Channel Islands, in Santa Barbara County, CA, exact site is unknown. Cultural material was “found in collections” with no information other than San Miguel Island, thus date collected or how the human remains came to the Southwest Museum (now part of the Autry Museum) is unknown.

Based on the information available, human remains representing, at least, one individual has been reasonably identified. The one associated funerary object is one bag of soil. The human remains (1760.G.29) were collected from Santa Cruz Island, Channel Islands, in Santa Barbara County, CA. at an unknown date by Mr. Lawrence W. Rundell. His mother, Mrs. William A. Mendel, gifted the cultural material to the Southwest Museum in 1963. Per museum records, Mr. L. W. Rundell “found the human remains on one of the Channel Islands (prob. Santa Cruz), but we cannot be sure”, at an unknown date.

Based on the information available, human remains representing at least nine individuals have been reasonably identified. The one associated funerary object is one mussel shell fragment. The human remains (421.G.534 and 421.G.535) were collected from the Northern Channel Islands, in Santa Barbara County, CA by Mr. George Wharton James at unknown date(s). Museum records states “Chumash Archaeological Material” with no indication of which site or island for any of the human remains. Mr. James wife and his stepdaughter gifted the cultural materials to the Southwest Museum in 1932.

Based on the information available, human remains representing, at least, two individuals have been reasonably identified. No associated funerary objects are present. The human remains (342.G.1, 342.G.2 and 342.G. 3) were collected from Rincon Point (CA-SBa-1), in Santa Barbara County, CA. by Mr. Martin R. Westcott and his wife. The cultural material was collected before it became part of Rincon Point State Beach. Mr. and Mrs. Westcott gifted the cultural material to Southwest Museum in 1924.

Based on the information available, human remains representing at least, one individual has been reasonably identified. The three associated funerary objects are one shell pendant fragment, one shell (missing), and one worked faunal bone fragment incised. The human remains (1052.G.37) and associated funerary objects were collected from the Indian cemetery portion of Rincon Point (CA-SBa-1), in Santa Barbara County, CA by Mr. Harry Clayton Davis as part of the Archaeology Society of Southern California (ASSC) excavation at Rincon Point. The Archaeology Society of Southern California (ASSC) was established circa 1920s and was a non-professional group. Mrs. Harry Clayton Davis gifted the cultural material to the Southwest Museum in 1946. The Chumash village of Shuku and cemetery are located at Rincon Point. There are two site ages for Rincon Point: The Early Period (5,000 to 6,000 B.P.) and the early Middle Period (ca. 2,150-2,750 B.P.).

Based on the information available, human remains representing, at least, one individual has been reasonably identified. No associated funerary objects are present. The human remains (871.G.68) were collected from an unknown site in the Santa Barbara region in Santa Barbara County, CA. by Miss Elizabeth Mason at an unknown date. Miss Elizabeth Mason gifted the cultural objects to the Southwest Museum in 1954.

Cultural Affiliation

Based on the information available and the results of consultation, cultural affiliation is reasonably identified by the geographical location or acquisition history of the human remains and associated funerary objects described in this notice.

Determinations

The Autry Museum of the American West has determined that:

• The human remains described in this notice represent the physical remains of 16 individuals of Native American ancestry.

• The five objects described in this notice are reasonably believed to have been placed intentionally with or near individual human remains at the time of death or later as part of the death rite or ceremony.

• There is a reasonable connection between the human remains and associated funerary objects described in this notice and the Santa Ynez Band of Chumash Mission Indians of the Santa Ynez Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 5, 2024. If competing requests for repatriation are received, the Autry Museum of the American West must determine the most appropriate requestor prior to repatriation. Requests for joint repatriation of the human remains and associated funerary objects are considered a single request and not competing requests. The Autry Museum of the American West is responsible for sending a copy of this notice to the Indian Tribes and Native Hawaiian organizations identified in this notice.

Authority: Native American Graves Protection and Repatriation Act, 25 U.S.C. 3003, and the implementing regulations, 43 CFR 10.10.

Dated: July 25, 2024.
Melanie O'Brien,
Manager, National NAGPRA Program.

[FR Doc. 2024-17258 Filed 8-5-24; 8:45 am]

BILLING CODE 4312-52-P